DEPARTMENT OF LABOR

Occupational Safety and Health Administration

29 CFR Parts 1910, 1913, 1915, and 1926

Technical Amendments

AGENCY: Occupational Safety and Health Administration (OSHA), Department of Labor.

ACTION: Final rule; corrections and technical amendments.

SUMMARY: The Department of Labor is conducting an ongoing review of its regulations to update non-substantive or nomenclature references in the Code of Federal Regulations (CFR). As part of this review, OSHA has identified safety and health rules needing correction or technical amendment. The revisions do not affect the substantive requirements or coverage of the standards involved, modify or revoke existing rights and obligations, or establish new rights and obligations. The revisions include updating references and removing obsolete effective dates and startup dates from existing Agency standards.

DATES: April 3, 2006.

FOR FURTHER INFORMATION CONTACT: Press inquiries: Kevin Ropp, OSHA Office of Communications, Room N-3647, U.S. Department of Labor, 200 Constitution Avenue, NW., Washington, DC 20210; telephone: (202) 693-1999. General and technical information: Michael Seymour, OSHA Directorate of Standards and Guidance, Room N-3718, U.S. Department of Labor, 200 Constitution Avenue, NW., Washington, DC 20210; telephone: (202) 693-1950. For additional copies of this Federal Register notice, contact the Office of Publications, OSHA, U.S. Department of Labor, Room N-3101, 200 Constitution Avenue, NW., Washington, DC 20210; telephone: (202) 693-1888. Electronic copies of this Federal Register notice, as well as news releases and other relevant documents, are available at OSHA's Web site on the Internet at http://www.osha.gov.

SUPPLEMENTARY INFORMATION:

I. Background

The Department of Labor's strategic outcome goal 4.2 measures the Department's success in creating a regulatory structure that promotes compliance flexibility and reduces regulatory burdens. As part of this strategic goal, the Department of Labor is conducting an on-going review of its regulations to update non-substantive or nomenclature references in the Code of Federal Regulations (CFR). The Department is also publishing in the Federal Register a notice amending references in Employment Standards Administration and Mine Safety and Health Administration standards.

As part of this effort, OSHA, in reviewing its regulations, has found some errors, some incorrect references and some obsolete provisions. In this corrections and technical amendments document, OSHA is addressing those items. OSHA has made similar technical revisions in the past to correct errors. OSHA believes that this action will increase employee protection and facilitate employer compliance by improving employer and employee understanding of the affected provisions.

The revisions do not affect the substantive requirements or coverage of the standards involved, modify or revoke existing rights and obligations, or establish new rights and obligations. Therefore, the Agency has determined that these revisions do not require notice-and-comment rulemaking. The rule does not change employers' compliance costs. Employers, for example, are not required to purchase new equipment or acquire additional skills or expertise. Accordingly, OSHA concludes that no economic or regulatory flexibility analysis of this rule is necessary and certifies that the rule will not have a significant impact on a substantial number of small entities. Because this final rule does not affect the substantive requirements of the standards, the Department of Labor has determined that delaying the effective date of the rule is unnecessary and good cause exists under 5 U.S.C. 553 (b)(3) to make this rule effective immediately upon publication in the Federal Register.

II. Summary and Explanation

With this rulemaking, OSHA is revising the following standards and regulations:

A. Effective Dates and Startup Dates

In the safety standards for general industry (29 CFR part 1910), paragraph (a)(2) of § 1910.178 (“Powered industrial trucks”) refers to effective dates specified in paragraph (b) of former § 1910.182 (“Effective dates”). OSHA removed § 1910.182 during an earlier rulemaking, making this reference obsolete. (See 61 FR 9227.) Therefore, the Agency is removing the reference to § 1910.182(b) from § 1910.178(a)(2).

Several additional safety standards for general industry have provisions that contain references to expired effective dates, including: § 1910.266 (“Logging operations”), the entry entitled “j. Effective date” in the table of contents listed in paragraph (a), as well as paragraph (j) (“Effective date”); and the single-sentence standard, § 1910.441 (“Effective date”), that specifies the effective date for the general-industry diving standards in subpart T (“Commercial Diving Operations”). Accordingly, OSHA is removing: the entry “j. Effective date” in paragraph (a), as well as paragraph (j), from § 1910.266; and the one-sentence standard, § 1910.441, from subpart T.

The Agency notes that a number of provisions among OSHA's substance-specific standards for general industry (part 1910) contain expired effective dates and/or startup dates, including: Paragraph (p) of § 1910.95 (“Occupational noise exposure”); paragraph (n) of § 1910.134 (“Respiratory protection”); paragraph (f) of § 1910.1000 (“Air contaminants”); paragraph (o) of § 1910.1001 (“Asbestos”); paragraph (o) of § 1910.1017 (“Vinyl chloride”); paragraphs (s) and (u) of § 1910.1018 (“Inorganic arsenic”); paragraphs (p) and (r), and Section XIV (“Effective Date—Paragraph (P)”) of Appendix B (“Employee Standard Summary”) of § 1910.1025 (“Lead”); paragraph (m) of § 1910.1028 (“Benzene”); paragraph (o) of § 1910.1029 (“Coke oven emissions”); paragraphs (g)(2)(ii)(B) and (g)(2)(iii) of § 1910.1030 (“Bloodborne pathogens”); paragraph (m) of § 1910.1043 (“Cotton dust”); paragraph (s) of § 1910.1045 (“Acrylonitrile”); paragraph (m) of § 1910.1047 (“Ethylene oxide”); paragraph (p) of § 1910.1048 (“Formaldehyde”); paragraphs (p) and (r) of § 1910.1050 (“Methylenedianiline”); paragraph (n) of § 1910.1051 (“1,3-Butadiene”); paragraph (n) of § 1910.1052 (“Methylene chloride”); and paragraph (k) of § 1910.1450 (“Occupational exposure to hazardous chemicals in laboratories”). The Agency is removing these provisions from the respective standards because the effective and/or startup dates they contain in the standards are now fully effective and are no longer relevant for pending enforcement cases.

In part 1913 (“Rules of Agency Practice and Procedure Concerning OSHA Access to Employee Medical Records”), paragraph (n) of § 1913.10 (“Rules of agency practice and procedure concerning OSHA access to employee medical records”) specifies an effective date that expired over 20 years ago. Accordingly, the Agency is removing paragraph (n) from § 1913.10.

Among the standards for shipyard employment (part 1915), paragraph (q) of § 1915.1001 (“Asbestos”) specifies an effective date and startup dates. These provisions of this standard are now fully effective, so OSHA is removing paragraph (q) from § 1915.1001.

The Agency also finds that the following provisions of part 1926 (“Safety and Health Regulations for Construction”) contain expired effective dates and/or startup dates: paragraphs (q) and (s) of § 1926.60 (“Methylenedianiline”), paragraphs (p) and (r), and Section XIV (“Effective Date—Paragraph (P)”) of Appendix B (“Employee Standard Summary”) of § 1926.62 (“Lead”); paragraph (q) of § 1926.1101 (“Asbestos”); and paragraph (p) of § 1926.1127 (“Cadmium”). With this rulemaking, OSHA is removing these paragraphs from the respective standards.

Subpart Y (“Diving”) of part 1926 contains a standard, § 1926.1092 (“Effective date”), that refers to an obsolete general industry standard (§ 1910.441; “Effective date”). Accordingly, the Agency is removing § 1926.1092 from the diving standards for the construction industry.

A number of provisions in parts 1910, 1915, and 1926 refer to the effective date of a standard as a number of days after the date of publication in the Federal Register and not to a specific month, day, and year. In this rulemaking, OSHA is also removing expired effective dates in this form.

B. References to Former § 1910.20 (“Access to Employee Exposure and Medical Records”)

In an earlier rulemaking (see 61 FR 9227), OSHA revised the designation of former § 1910.20 to § 1910.1020. However, this previous rulemaking did not revise references to § 1910.20 contained in various (usually recordkeeping) provisions of a number its standards and regulations.

For each of the following paragraphs in parts 1910 (“Occupational Safety and Health Standards”) and 1913 (“Rules of Agency Practice and Procedure Concerning OSHA Access to Employee Medical Records”), OSHA is removing the reference to § 1910.20 and replacing it with a reference to the new designation, § 1910.1020: § 1910.95 (“Occupational noise exposure”), paragraph (m)(4); § 1910.120 (“Hazardous waste operations and emergency response”), paragraph (f)(8)(i); § 1910.440 (“Recordkeeping requirements”), paragraph (b)(2); § 1910.1001 (“Asbestos”), paragraphs (m)(3)(i), (m)(3)(iii), (m)(5)(ii), (m)(5)(iii), and (m)(6)(i); § 1910.1003 (“13 Carcinogens (4-nitrobiphenyl, etc.”), paragraph (g)(2)(ii); § 1910.1017 (“Vinyl chloride”), paragraphs (m)(2) and (m)(3); § 1910.1018 (“Inorganic arsenic”), paragraphs (q)(3)(ii) and (q)(4)(iv); § 1910.1025 (“Lead”), paragraphs (n)(4)(ii) and (n)(5)(iv); § 1910.1027 (“Cadmium”), paragraphs (m)(4)(iii)(H), (n)(1)(iii), (n)(3)(iii), (n)(5)(i), and (n)(6); § 1910.1029 (“Coke oven emissions”), paragraphs (m)(3)(ii) and (m)(4)(iv); § 1910.1030 (“Bloodborne pathogens”), paragraphs (h)(1)(i), (h)(1)(iv), (h)(3)(iii), and (h)(4)(i); § 1910.1043 (“Cotton dust”), paragraphs (k)(3)(ii) and (k)(4)(iv); § 1910.1044 (“1,2-Dibromo-3-chloropropane”), paragraphs (p)(3)(ii) and (p)(4)(iv); § 1910.1045 (“Acrylonitrile”), paragraphs (q)(4)(ii) and (q)(5)(iv); § 1910.1047 (“Ethylene oxide”), paragraphs (k)(2)(iii), (k)(3)(i), (k)(3)(iii), (k)(4)(ii), (k)(4)(iii), and (k)(5)(i); § 1910.1048 (“Formaldehyde”), paragraphs (o)(6)(ii) and (o)(6)(iii); § 1910.1050 (“Methylenedianiline”), paragraphs (n)(3)(i), (n)(3)(iii), (n)(4)(i), (n)(4)(iv), (n)(6)(ii), (n)(6)(iii), and (n)(7)(i); § 1910.1051 (“1,3-Butadiene”), paragraphs (m)(2)(iii), (m)(4)(iii), (m)(5)(ii), and (m)(6)(ii); and § 1913.10 (“Rules of agency practice and procedure concerning OSHA access to employee medical records”), paragraphs (b)(1), (b)(3), (b)(4), (d)(4)(i), and (e)(3).

OSHA is also revising the reference to § 1910.20 in several paragraphs of part 1915 (“Occupational Safety and Health Standards for Shipyard Employment”). These paragraphs are: § 1915.1001 (Asbestos), paragraphs (n)(2)(iii), (n)(3)(i), (n)(3)(iii), (n)(7)(ii), (n)(7)(iii), and (n)(8)(i).

A number of paragraphs in part 1926 (“Safety and Health Regulations for Construction”) also refer incorrectly to § 1910.20. Therefore, the Agency is revising these paragraphs to refer instead to § 1926.33, the construction standard that regulates access to employee exposure and medical records: § 1926.60 (“Methylenedianiline”), paragraphs (o)(4)(iii), (o)(5)(i), (o)(5)(iii), (o)(7)(ii), (o)(7)(iii), and (o)(8)(i); § 1926.62 (“Lead”), paragraphs (n)(1)(iii), (n)(2)(iv), and (n)(6)(iv); § 1926.800 (“Underground construction”), paragraph (j)(3); and § 1926.1101 (“asbestos”), paragraphs (n)(2)(iii), (n)(3)(i), (n)(3)(iii), (n)(7)(ii), (n)(7)(iii), and (n)(8)(i).

C. Removal or Correction of Other Outdated Provisions and References

1. Access to Employee Exposure and Medical Records (§ 1910.1020)

One of the trade-secret provisions of this standard, paragraph (f)(4)(v), specifies that health professionals, employees, or designated representatives who request access to trade-secret information from an employer must “agree not to release the information * * * other than to OSHA, as provided in paragraph (f)(9) of this section * * *.” However, paragraph (f)(9) addresses how the requesting party can obtain redress from OSHA if an employer denies access to trade-secret information, while paragraph (f)(7) of the standard discusses releasing trade-secret information to the Agency if the requesting party decides that a need to do so exists. Therefore, paragraph (f)(4)(v) of the standard should refer to paragraph (f)(7), not paragraph (f)(9), when addressing the release of trade-secret information to OSHA. By this rulemaking, the Agency is correcting this reference.

2. Cadmium (§ 1910.1027 and § 1926.1127)

Paragraph (q)(1) in each of OSHA's cadmium standards contains a reference to Appendix C. The Agency deleted Appendix C during an earlier rulemaking (see 63 FR 1152); therefore, it is removing existing paragraph (q)(1) from these standards.

3. Benzene (§ 1910.1028)

The last sentence in paragraph (n) of this standard states, “The protocols for respiratory fit testing in Appendix E of this section are mandatory.” However, the Agency removed Appendix E from this standard in a previous rulemaking (see 63 FR 1152). Therefore, OSHA is deleting this entire sentence from paragraph (n) of the standard.

4. Formaldehyde (§ 1910.1048)

Appendix A of the formaldehyde standard refers to Appendix E in the last sentence of the paragraph designated “Respiratory Protection” in the section titled “Protective Equipment and Clothing.” However, the Agency removed Appendix E from this standard in a previous rulemaking (see 63 FR 1152). Therefore, OSHA is deleting the reference to Appendix E from this paragraph and section of Appendix A.

5. Methylenedianiline (§ 1910.1050 and § 1926.60)

Paragraph (f)(8)(iii) of § 1926.60 reads, “Maintain records of the corrective actions in accordance with paragraph (n) of this section.” The reference paragraph in this provision should be paragraph (o) (“Recordkeeping”), not paragraph (n) (“Medical surveillance”). The Agency is revising the provision accordingly.

The last sentence in paragraph (q) of § 1910.1050 and paragraph (r) of § 1926.60 states, “The protocols for respiratory fit testing in appendix E of this section are mandatory.” However, the Agency removed Appendix E from both these standards in a previous rulemaking (see 63 FR 1296). Therefore, OSHA is deleting this entire sentence from paragraphs (q) and (r), respectively, of these standards.

6. 1,3-Butadiene (§ 1910.1051)

Paragraph (n) contains effective and start-up dates. The Agency is removing paragraph (n) from this standard because the start-up dates have expired. However, one start-up date is still current, paragraph (n)(2)(i), which requires employers to conduct initial monitoring within 60 days of introducing 1,3-Butadiene (BD) into the workplace. OSHA is preserving this requirement by adding a sentence to paragraph (d)(2)(i) that reads: “The initial monitoring required under this paragraph shall be completed within 60 days of the introduction of BD into the workplace.”

7. Lead (§ 1926.62)

Paragraph (d)(2)(v)(F) of this standard specifies that, until employers perform exposure assessments according to paragraph (d) of the standard, they must provide designated employees with interim protection, including “training as required by paragraph (l)(2)(ii)(C) of this section, regarding the use of respirators[.]” However, paragraph (l)(2)(iii) of this standard regulates training for the proper selection, fitting, use, and limitations of respirator use and there is no paragraph (l)(2)(ii)(C). Accordingly, the Agency is removing the reference to paragraph (l)(2)(ii)(C) in paragraph (d)(2)(v)(F) of the standard and replacing it with a reference to the correct reference, paragraph (l)(2)(iii) of the standard.

8. Structural Steel Assembly (§ 1926.754)

Section 1926.754 (c)(2), Slip resistance of metal decking, is a reserved section that has no text and therefore is being removed.

III. Authority

Authority: Sections 4, 6, and 8 of the Occupational Safety and Health Act of 1970 (29 U.S.C. 651, 655, and 657); Section 41 of the Longshore and Harbor Workers' Compensation Act (33 U.S.C. 941); Section 107 of the Contract Work Hours and Safety Standards Act (40 U.S.C. 3704); Secretary of Labor's Order 5-2002 (67 FR 65008); 29 CFR part 1911; and the Administrative Procedures Act (5 U.S.C 553).

Jonathan L. Snare, Acting Assistant Secretary of Labor, U.S. Department of Labor, 200 Constitution Ave, NW., Washington, DC 20210 directed the preparation of this notice.

Signed at Washington, DC, this 3rd day of March, 2006.
Jonathan L. Snare,
Acting Assistant Secretary of Labor.

List of Subjects

29 CFR Part 1910

Airborne lead; Blood lead; Blood-lead analysis; Coke-oven emissions; Construction; Effective date; Employee information; Exposure record; Fit-testing record; Formaldehyde; Initial exposure monitoring; Medical record; Methylenedianiline; Part 1910, Index; Recordkeeping; Respirators; Respiratory protection; Respirator training; Respirator selection; Startup date; Trade-secret information; 1,3-Butadiene; 13 Carcinogens.

29 CFR Part 1913

Record access; Effective date; Exposure record; Medical record; Startup date; Privacy.

29 CFR Part 1915

Asbestos; Effective date; Exposure record; Medical record; Respirators; Respiratory protection; Shipyards; Startup date.

29 CFR Part 1926

Airborne lead; Blood lead; Coke oven emissions; Construction; Effective date; Exposure record; Lead exposure; Medical record; Methylenedianiline; Recordkeeping; Respirator training; Startup date.

Amendments to Standards

In accordance with Sections 4, 6, and 8 of the Occupational Safety and Health Act of 1970 (29 U.S.C. 653, 655, and 657), Section 41 of the Longshore and Harbor Workers' Compensation Act (33 U.S.C. 941), Section 107 of the Contract Work Hours and Safety Standards Act (40 U.S.C. 3704), the Administrative Procedures Act (5 U.S.C. 553(b)(3)(B)), Secretary of Labor's Order No. 5-2002 (67 FR 65008), and 29 CFR 1911 as applicable, the Agency corrects 29 CFR parts 1908, 1910, 1913, 1915, 1917, 1918, and 1926 by making the following corrections and technical amendments:

PART 1910—OCCUPATIONAL SAFETY AND HEALTH STANDARDS

Part 1910 [Nomenclature change]

1. In 29 CFR part 1910, remove the reference “§ 1910.20” and add, in its place, the reference “§ 1910.1020” in the following paragraphs:

a. § 1910.95(m)(4)

b. § 1910.120(f)(8)(i)

c. § 1910.440(b)(2)

d. § 1910.1001(m)(3)(i), (m)(3)(iii), (m)(5)(ii), (m)(5)(iii), and (m)(6)(i)

e. § 1910.1003(g)(2)(ii)

f. § 1910.1017(m)(2) introductory text and (m)(3)

g. § 1910.1018(q)(3)(ii) and (q)(4)(iv)

h. § 1910.1025(n)(4)(ii) and (n)(5)(iv)

i. § 1910.1027(m)(4)(iii)(H), (n)(1)(iii), (n)(3)(iii), (n)(5)(i), and (n)(6)

j. § 1910.1029(m)(3)(ii) and (m)(4)(iv)

k. § 1910.1030(h)(1)(i), (h)(1)(iv), (h)(3)(iii), and (h)(4)(i)

l. § 1910.1043(k)(3)(ii) and (k)(4)(iv)

m. § 1910.1044(p)(3)(ii) and (p)(4)(iv)

n. § 1910.1045(q)(4)(ii) and (q)(5)(iv)

o. § 1910.1047(k)(2)(iii), (k)(3)(i), (k)(3)(iii), (k)(4)(ii), (k)(4)(iii), and (k)(5)(i)

p. § 1910.1048(o)(6)(ii) and (o)(6)(iii)

q. § 1910.1050(n)(3)(i), (n)(3)(iii), (n)(4)(i), (n)(4)(iv), (n)(6)(ii), (n)(6)(iii), and (n)(7)(i)

r. § 1910.1051(m)(2)(iii), (m)(4)(iii), (m)(5)(ii), and (m)(6)(ii)

Subpart G—Occupational Health and Environmental Control

2. The authority citation for 29 CFR part 1910 subpart G is revised to read as follows:

Authority: Secs. 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2002 (67 FR 50017) as applicable; and 29 CFR part 1911.

§ 1910.95 [Amended]

3. In § 1910.95, paragraph (p) is removed.

Subpart I—Personal Protective Equipment

4. In 29 CFR part 1910, the authority citation for subpart I is revised to read as follows:

Authority: Secs. 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2002 (67 FR 65008) as applicable; and 29 CFR part 1911.

§§ 1910.132, 1910.134, and 1910.136 also issued under 29 CFR part 1911.

§§ 1910.133, 1910.135, and 1910.136 also issued under 29 CFR part 1911 and 5 U.S.C. 553.

§ 1910.134 [Amended]

5. In § 1910.134, paragraph (n) is removed and reserved.

Subpart N—Materials Handling and Storage

6. In 29 CFR part 1910, the authority citation for subpart N is revised to read as follows:

Authority: Secs. 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2002 (67 FR 65008) as applicable; and 29 CFR part 1911.

§§ 1910.176, 1910.177, 1910.178, 1910.179, 1910.180, 1910.181, and 1910.184 also issued under 29 CFR part 1911.

7. In § 1910.178, paragraph (a)(2) is revised to read as follows:

§ 1910.178 Powered industrial trucks.

(a) * * *

(2) All new powered industrial trucks acquired and used by an employer shall meet the design and construction requirements for powered industrial trucks established in the “American National Standard for Powered Industrial Trucks, Part II, ANSI B56.1-1969”, which is incorporated by reference as specified in § 1910.6, except for vehicles intended primarily for earth moving or over-the-road hauling.

* * * * *

Subpart R—Special Industries

8. The authority citation for 29 CFR Part 1910 subpart R is revised to read as follows:

Authority: Sections 4, 6, and 8 of the Occupational Safety and Health Act of 1970 (29 U.S.C. 653, 655, 657); Secretary of Labor's Order Nos. 12-71 (36 FR 8754), 8-76 (41 FR 25059), 9-83 (48 FR 35736), 6-96 (62 FR 111), 3-2000 (65 FR 50017), or 5-2002 (67 FR 65008) as applicable; and 29 CFR part 1911.

§ 1910.266 [Amended]

9. In § 1910.266, paragraph (a), Table of Contents, the entry “j. Effective date” is removed, the entry “k. Appendices” is redesignated “j. Appendices”, and the text of paragraph (j) is removed and paragraph (k) is redesignated as paragraph (j).

* * * * *

Subpart T—Commercial Diving Operations

10. The authority citation for 29 CFR part 1910 subpart T is revised to read as follows:

Authority: Sections 4, 6, and 8 of the Occupational Safety and Health Act of 1970 (29 U.S.C. 653, 655, and 657); Sec. 107, Contract Work Hours and Safety Standards Act (the Construction Safety Act) (40 U.S.C. 333); Sec. 41, Longshore and Harbor Workers' Compensation Act (33 U.S.C. 941); Secretary of Labor's Order No. 8-76 (41 FR 25059), 9-83 (48 FR 35736), 1-90 (55 FR 9033), 3-2000 (65 FR 50017), or 5-2002 (67 FR 65008) as applicable; 29 CFR part 1911.

§ 1910.441 [Removed]

11. Remove § 1910.441.

Subpart Z—Toxic and Hazardous Substances

12. The authority citation for 29 CFR part 1910 subpart Z is revised to read as follows:

Authority: Sections 4, 6, and 8 of the Occupational Safety and Health Act of 1970 (29 U.S.C. 653, 655, 657); Secretary of Labor's Order No. 12-71 (36 FR 8754), 8-76 (41 FR 25059), 9-83 (48 Fr 35736), 1-90 (55 FR 9033), 6-96 (62 FR 111), 3-2000 (65 FR 50017), or 5-2002 (67 FR 65008) as applicable; and 29 CFR part 1911.

All of subpart Z issued under section 6(b) of the Occupational Safety and Health Act, except those substances that have exposure limits listed in Tables Z-1, Z-2, and Z-3 of 29 CFR 1910.1000. The latter were issued under section 6(a) (29 U.S.C. 655(a)).

§ 1910.1000, Tables Z-1, Z-2 and Z-3 also issued under 5 U.S.C. 553, § 1910.1000 Tables Z-1, Z-2, and Z-3 not issued under 29 CFR part 1911 except for the arsenic (organic compounds), benzene, and cotton dust listings.

§ 1910.1001 also issued under section 107 of the Contract Work Hours and Safety Standards Act (40 U.S.C. 333) and 5 U.S.C. 553.

§ 1910.1002 not issued under 29 U.S.C. 655 or 29 CFR part 1911; also issued under 5 U.S.C. 553.

§ 1910.1018, 1910.1029, and 1910.1200 are also issued under 29 U.S.C. 653.

§ 1910.1000 [Amended]

13. In § 1910.1000, paragraph (f) is removed.

§ 1910.1001 [Amended]

14. In § 1910.1001, paragraph (o) is removed, and paragraph (p) is redesignated paragraph (o).

§ 1910.1017 [Amended]

15. In § 1910.1017, paragraph (o) is removed.

§ 1910.1018 [Amended]

16. In § 1910.1018, paragraph (s) is removed, and paragraph (t) is redesignated paragraph (s) and paragraph (u) is removed.

§ 1910.1020 [Amended]

17. In § 1910.1020, paragraph (f)(4)(v), remove the reference “paragraph (f)(9)” and add in its place, the reference “paragraph (f)(7)”.

§ 1910.1025 [Amended]

18. In § 1910.1025, paragraphs (p) and (r) are removed, and paragraph (q) is redesignated as paragraph (p).

19. In § 1910.1025, Appendix B, section XIV. EFFECTIVE DATE—PARAGRAPH (p) is removed and section XV is redesignated section XIV.

§ 1910.1027 [Amended]

20. In § 1910.1027, paragraph (q) is revised to read as follows:

§ 1910.1027 Cadmium.

* * * * *

(q) Appendices. Except where portions of appendices A, B, D, E, and F to this section are expressly incorporated in requirements of this section, these appendices are purely informational and are not intended to create any additional obligations not otherwise imposed or to detract from any existing obligations.

* * * * *

§ 1910.1028 [Amended]

21. In § 1910.1028, paragraph (m) is removed and reserved, and paragraph (n) is revised to read as follows:

§ 1910.1028 Benzene.

* * * * *

(n) Appendices. The information contained in Appendices A, B, C, and D is not intended, by itself, to create any additional obligations not otherwise imposed or to detract from any existing obligations.

* * * * *

§ 1910.1029 [Amended]

22. In § 1910.1029, paragraph (o) is removed and reserved.

§ 1910.1030 [Amended]

23. In § 1910.1030, paragraph (g)(2)(ii)(B) is removed, and paragraph (g)(2)(ii)(C) is redesignated paragraph (g)(2)(ii)(B), and paragraph (g)(2)(iii) is removed and reserved.

§ 1910.1043 [Amended]

24. In § 1910.1043, paragraph (m) is removed, and paragraphs (n) and (o) are redesignated paragraphs (m) and (n), respectively.

§ 1910.1045 [Amended]

25. In § 1910.1045, paragraph (s) is removed and reserved.

§ 1910.1047 [Amended]

26. In § 1910.1047, paragraph (m) is removed and reserved.

§ 1910.1048 [Amended]

27. In § 1910.1048, paragraph (p) is removed.

28. In § 1910.1048, Appendix A, the section entitled “Protective Equipment and Clothing”, second paragraph entitled “Respiratory Protection:” is revised to read as follows:

§ 1910.1048 Formaldehyde.

* * * * *

Appendix A to § 1910.1048—Substance Technical Guidelines for Formalin

* * * * *

Respiratory Protection: Use NIOSH-approved full facepiece negative pressure respirators equipped with approved cartridges or canisters within the use limitations of these devices. (Present restrictions on cartridges and canisters do not permit them to be used for a full workshift.) In all other situations, use positive pressure respirators such as the positive-pressure air purifying respirator or the self-contained breathing apparatus (SCBA). If you use a negative pressure respirator, your employer must provide you with fit testing of the respirator at least once a year.

* * * * *

§ 1910.1050 [Amended]

29. In § 1910.1050, paragraph (p) is removed and reserved, paragraph (q) is revised to read as set forth below, and paragraph (r) is removed.

§ 1910.1050 Methylenedianiline.

* * * * *

(q) Appendices. The information contained in Appendices A, B, C, and D of this section is not intended, by itself, to create any additional obligations not otherwise imposed by this standard nor detract from any existing obligation.

* * * * *

§ 1910.1051 [Amended]

30. In § 1910.1051, paragraph (d)(2)(i) is revised to read as set forth below, and paragraph (n) is removed and reserved.

§ 1910.1051 1,3-Butadiene.

* * * * *

(d) * * *

(2) Initial monitoring. (i) Each employer who has a workplace or work operation covered by this section, shall perform initial monitoring to determine accurately the airborne concentrations of BD to which employees may be exposed, or shall rely on objective data pursuant to paragraph (a)(2)(i) of this section to fulfill this requirement. The initial monitoring required under this paragraph shall be completed within 60 days of the introduction of BD into the workplace.

* * * * *

§ 1910.1052 [Amended]

31. In § 1910.1052, paragraph (n) is removed and reserved.

§ 1910.1450 [Amended]

32. In § 1910.1450, paragraph (k) is removed and reserved.

PART 1913—RULES OF AGENCY PRACTICE AND PROCEDURE CONCERNING OSHA ACCESS TO EMPLOYEE MEDICAL RECORDS

33. The authority citation for part 1913 is revised to read as follows:

Authority: Sec. 8, Occupational Safety and Health Act of 1970 (29 U.S.C. 657); Sec. e, Privacy Act (5 U.S.C. 552a(e); 5 U.S.C. 301); Secretary of Labor's Order No. 8-76 (41 FR 25059), or 5-2002 (67 FR 65008) as applicable.

§ 1913.10 [Amended]

34. Amend § 1913.10 in (b)(1), (b)(3), (b)(4), (d)(4)(i), and (e)(3) by removing the reference “§ 1910.20” and adding, in its place, the reference “§ 1910.1020”, and by removing paragraph (n).

PART 1915—OCCUPATIONAL SAFETY AND HEALTH STANDARDS FOR SHIPYARD EMPLOYMENT

35.The authority citation for part 1915 is revised to read as follows:

Authority: Section 41, Longshore and Harbor Workers' Compensation Act (33 U.S.C. 941), Secs. 4, 6, and 8, Occupational Safety and Health Act of 1970 (29 U.S.C. 653,655,657), Secretary of Labor's Order No. 8-76 (41 FR 25059), 9-83 (48 FR 35736), 1-90 (55 FR 9033), 6-96 (62 FR 111), 3-2000 (65 FR 50017) or 5-2002 (67 FR 65008) as applicable; and 29 CFR part 1911.

§ 1915.1001 [Amended]

36. Amend § 1915.1001 by removing the reference “§ 1910.20” and adding, in its place, the reference “§ 1910.1020” in paragraphs (n)(2)(iii), (n)(3)(i), (n)(3)(iii), (n)(7)(ii), (n)(7)(iii), and (n)(8)(i), and by removing paragraph (q).

PART 1926—SAFETY AND HEALTH STANDARDS FOR CONSTRUCTION

Part 1926 [Nomenclature change]

37. In 29 CFR part 1926, remove the reference “§ 1910.20” and add, in its place, the reference “§ 1926.33” in the following places:

a. § 1926.60 (o)(4)(iii), (o)(5)(i), (o)(5)(iii), (o)(7)(ii), (o)(7)(iii), and (o)(8)(i).

b. § 1926.62 (n)(1)(iii), (n)(2)(iv), and (n)(6)(iv).

c. § 1926.800 (j)(3).

d. § 1926.1101 (n)(2)(iii), (n)(3)(i), (n)(3)(iii), (n)(7)(ii), (n)(7)(iii), and (n)(8)(i).

Subpart D—Occupational Health and Environmental Controls

38.The authority citation for 29 CFR part 1926 Subpart D is revised to read as follows:

Authority: Sec. 107, Contract Work Hours and Safety Standards Act (Construction Safety Act) (40 U.S.C. 333); Secs. 4, 6, and 8 of the Occupational Safety and Health Act of 1970 (29 U.S.C. 653, 655, and 657); Secretary of Labor's Order No. 12-71 (36 FR 8754), 8-76 (41 FR 25059), 9-83 (48 FR 35736), 1-90 (55 FR 9033), 6-96 (62 FR 111), 3-2000 (65 FR 50017), or 5-2002 (67 FR 65008) as applicable; and 29 CFR part 1911.

§ 1926.60 [Amended]

39. In § 1926.60 paragraph (f)(8)(iii) is revised, paragraphs (q) and (s) are removed, and paragraph (r) is redesignated as (q) and revised to read as follows:

§ 1926.60 Methyenedianiline.

* * * * *

(f) * * *

(8) * * *

(iii) Maintain records of the corrective actions in accordance with paragraph (o) of this section.

* * * * *

(q) Appendices. The information contained in appendices A, B, C, and D of this section is not intended, by itself, to create any additional obligations not otherwise imposed by this standard nor detract from any existing obligation.

* * * * *

§ 1926.62 [Amended]

40. In § 1926.62, paragraph (d)(2)(v)(F) is revised, paragraphs (p) and (r) are removed, and paragraph (q) is redesignated as paragraph (p).:

§ 1926.62 Lead.

* * * * *

(d) * * *

(2) * * *

(v) * * *

(F) Training as required under paragraph (l)(1)(i) of this section regarding 29 CFR 1926.59, Hazard Communication; training as required under paragraph (1)(2)(iii) of this section, regarding use of respirators; and training in accordance with 29 CFR 1926.21, Safety training and education.

* * * * *

41. In § 1926.62, Appendix B, paragraph XIV. EFFECTIVE DATE—Paragraph (P) is removed, and paragraph XV is redesignated paragraph XIV.

Subpart R—Steel Erection

42. The authority citation for 29 CFR part 1926 Subpart R is revised to read as follows:

Authority: Sec. 107, Contract Work Hours and Safety Standards Act (Construction Safety Act) (40 U.S.C. 333); Sec. 4, 6, and 8, Occupational Safety and Health Act of 1970 (29 U.S.C. 653, 655, 657); Secretary of Labor's Order No. 3-2000 (65 FR 50017), No. 5-2002 (67 FR 65008), and 29 CFR part 1911.

§ 1926.754 [Amended]

43. In § 1926.754, paragraph (c) is revised to read as follows:

§ 1926.754 Structural steel assembly.

* * * * *

(c) Walking/working surfaces—shear connectors and other similar devices. (1) Tripping hazards. Shear connectors (such as headed steel studs, steel bars or steel lugs), reinforcing bars, deformed anchors or threaded studs shall not be attached to the top flanges of beams, joists or beam attachments so that they project vertically from or horizontally across the top flange of the member until after the metal decking, or other walking/working surface, has been installed.

(2) Installation of shear connectors on composite floors, roofs and bridge decks. When shear connectors are used in construction of composite floors, roofs and bridge decks, employees shall lay out and install the shear connectors after the metal decking has been installed, using the metal decking as a working platform. Shear connectors shall not be installed from within a controlled decking zone (CDZ), as specified in § 1926.760(c)(8).

* * * * *

Subpart Y — Diving

44. The authority citation for 29 CFR part 1926, Subpart Y, is revised to read as follows:

Authority: Sections 4, 6, and 8 of the Occupational Safety and Health Act of 1970 (29 U.S.C. 653, 655, 657); Sec. 107, Contract Work Hours and Safety Standards Act (the Construction Safety Standards Act) (40 U.S.C. 333); Sec. 41, Longshore and Harbor Workers' Compensation Act (33 U.S.C. 941); Secretary of Labor's Order No. 12-71 (36 FR 8754), 8-76 (41 FR 25059), 9-83 (48 FR 35736), 1-90 (55 FR 9033), 3-2000 (65 FR 50017) or 5-2002 (67 FR 65008) as applicable; and 29 CFR part 1911.

§ 1926.1092 [Removed]

45. Section 1926.1092 is removed.

Subpart Z—Toxic and Hazardous Substances

46. The authority citation for 29 CFR part 1926 subpart Z is revised to read as follows:

Authority: Sec. 107, Contract Work Hours and Safety Standards Act (the Construction Safety Standards Act) (40 U.S.C. 333); Secs. 4, 6, and 8, Occupational Safety and Health Act of 1970 (29 U.S.C. 653, 655, 657); Secretary of Labor's Order No. 12-71 (36 FR 8754), 8-76 (41 FR 25059), 9-83 (48 FR 35736), 6-96 (62 FR 11), 3-2000 (65 FR 50017), or 5-2002 (67 FR 65008) as applicable; and 29 CFR part 1911.

§ 1926.1102 not issued under 29 U.S.C. 655 or 29 CFR part 1911; also issued under 5 U.S.C. 553.

§ 1926.1101 [Amended]

47. In § 1926.1101, paragraph (q) is removed.

§ 1926.1127 [Amended]

48. In § 1926.1127, paragraph (p) is removed and reserved, paragraph (q)(1) is removed, and paragraph (q)(2) is redesignated paragraph (q) and revised to read as follows:

§ 1926.1127 Cadmium.

* * * * *

(q) Appendices. Except where portions of appendices A, B, D, E, and F to this section are expressly incorporated in requirements of this section, these appendices are purely informational and are not intended to create any additional obligations not otherwise imposed or to detract from any existing obligations.

* * * * *

[FR Doc. 06-3042 Filed 3-31-06; 8:45 am]

BILLING CODE 4510-26-P